DEPARTMENT OF THE INTERIOR

Fish and Wildlife Service

Grand Cote National Wildlife Refuge

AGENCY: Fish and Wildlife Service, Interior.

ACTION: Notice of intent to prepare a Comprehensive Conservation Plan and Environmental Assessment for Grand Cote National Wildlife Refuge located in Avoyelles Parish, Louisiana.

SUMMARY: The Fish and Wildlife Service, Southeast Region, intends to gather information necessary to prepare a comprehensive conservation plan and environmental assessment pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental document.

Special mailings, newspaper articles, and other media announcements will be used to inform the public and state and local government agencies of the opportunities for input throughout the planning process. Open house style meetings will be held throughout the scoping phase of the comprehensive conservation plan development process.

DATES: To ensure consideration, we must receive written comments on or before April 5, 2004.

ADDRESSES: Address comments, questions, and requests for more information to Tina Chouinard, Natural Resource Planner, Central Louisiana National Wildlife Refuge Complex, 401 Island Road, Marksville, Louisiana 71351.

SUPPLEMENTARY INFORMATION: By Federal law, all lands within the National Wildlife Refuge System are to be managed in accordance with an approved comprehensive conservation plan. This plan guides management decisions and identifies the goals, long-range objectives, and strategies for achieving refuge purposes. The planning process will consider many elements, including wildlife and habitat management, public recreational activities, and cultural resource protection. Public input into this planning process is essential.

Grand Cote National Wildlife Refuge was established in 1989 to provide wintering habitat for mallards, pintails, blue-winged teal, and wood ducks, as well as production habitat for wood ducks to meet the goals of the North American Waterfowl Management Plan. Additional objectives of the refuge include providing habitat for threatened and endangered species, providing habitat for a natural diversity of plant and wildlife species, and providing opportunities for wildlife-oriented recreation and environmental education when compatible with other refuge objectives.

Grand Cote Refuge, consisting of 6,075 acres, is a component of the Central Louisiana National Wildlife Refuge Complex, which includes Lake Ophelia and Cat Island Refuges, three fee title Farmers Home Administration tracts, and thirteen conservation easements located in four central Louisiana Parishes.

FOR FURTHER INFORMATION CONTACT: Natural Resource Planner, Central Louisiana National Wildlife Refuge Complex, telephone: 318/253-4238; fax: 318/253-7139; e-mail: tina_chouinard@fws.gov; or mail (write to the Natural Resource Planner at address in ADDRESSES section).

Authority: This notice is published under the authority of the National Wildlife Refuge System Improvement Act of 1997, Public Law 105-57.

Dated: January 29, 2004.
J. Mitch King,
Acting Regional Director.

[FR Doc. 04-3491 Filed 2-18-04; 8:45 am]

BILLING CODE 4310-55-M